DEPARTMENT OF VETERANS AFFAIRS

Solicitation of Nominations for Appointment to the Geriatrics and Gerontology Advisory Committee

AGENCY: Department of Veterans Affairs.

ACTION: Notice of Geriatrics and Gerontology Advisory Committee appointment.

SUMMARY: The Department of Veterans Affairs (VA), Office of Geriatrics and Extended Care, is seeking nominations of qualified candidates to be considered for appointment as a member of the Geriatrics and Gerontology Advisory Committee (herein-after in this section referred to as “the Committee”). The Committee advises the VA Secretary and the Under Secretary for Health on all matters pertaining to geriatrics and gerontology.

DATES: Nominations of qualified candidates are being sought to fill vacancies on the Committee. Nominations for membership on the Committee must be received no later than 5:00 p.m. EST on May 15, 2023.

ADDRESSES: All nominations should be emailed to Marianne Shaughnessy, Ph.D., AGPCNP-BC, GS-C, FAAN, to Marianne.Shaughnessy@va.gov.

FOR FURTHER INFORMATION CONTACT: Marianne Shaughnessy, Ph.D., AGPCNP-BC, GS-C, FAAN, at 202-461-6750 or Marianne.Shaughnessy@va.gov. A copy of the Committee charter and list of the current membership can also be obtained by contacting Dr. Shaughnessy.

SUPPLEMENTARY INFORMATION: The Committee's areas of interest include but are not limited to: (1) assessing the capability of VA health care facilities to respond with the most effective and appropriate services possible to the medical, psychological and social needs of Veterans facing the consequences of aging, serious illness or disability; and (2) advancing scientific knowledge to meet those needs by enhancing geriatric care for older Veterans through geriatric and gerontology research, the training of health personnel in the provision of health care to older individuals, and the development of improved models of clinical services for older Veterans.

Membership Criteria and Qualifications: The Committee is comprised of 12 members in addition to ex officio members, each of whom have established interest and considerable vocation-related experiences bearing on health care for aging Veterans, including experience in areas such as: VA- and non-VA health systems, academic geriatric and gerontology programs, palliative medicine, home and community-based care, nursing home care, relevant policy issues, and grant-funded academic research.

The expertise required of GGAC members includes, but is not limited to, the following:

a. familiarity or experience with clinical and health policies concerning the elderly; and/or

b. familiarity or experience with the partnerships between VA and health sciences academic programs; and/or

c. familiarity with the history of geriatrics in VA and in the U.S., and the unique role that has been played in that evolution by VA's Geriatric Research, Education, and Clinical Centers (GRECC).

Membership Requirements: The Committee holds at least one face-to-face meeting in Washington, DC, and conducts 4-5 site visits a year. The ideal candidate will be willing to travel 3-5 times per year to help the Committee fulfill its Chartered objectives.

The Committee's diverse membership is characterized by a range of backgrounds and knowledge sufficiently broad to provide adequate advice and guidance to the Secretary. VA strives to develop a Committee membership that includes diversity in military services, ranks, and deployments, working with Veterans, committee subject matter expertise, as well as diversity in race/ethnicity, gender, religion, disability, geographical background, and profession. We ask that nominations include information of this type so that VA can ensure diverse Committee membership.

Requirements for Nomination Submission: Nominations should be typed (one nomination per nominator). Self-nominations are acceptable. Nomination package should include:

(1) A cover letter that clearly states the name and affiliation of the nominee, the basis for the nomination (i.e., specific attributes which qualify the nominee for service in this capacity), and a statement from the nominee indicating the willingness to serve as a member of the Committee;

(2) The nominee's contact information, including name, mailing address, telephone numbers, and email address;

(3) The nominee's curriculum vitae; and

(4) letters of recommendation are accepted, but not required; and

(5) a statement confirming that the nominee is not a federally-registered lobbyist. Individuals selected for appointment to the Committee shall be invited to serve a 4-year term. Committee members will receive a stipend for attending Committee meetings, including per diem and reimbursement for travel expenses incurred.

The Department makes every effort to ensure that the membership of VA Federal advisory committees is diverse in terms of points of view represented. In order to promote inclusion and balance of membership, cover letters may also include information regarding history of military service, race, color, religion, gender identity, national origin, age, disability or other factors that would give the nominee a unique perspective on older Veteran matters. Nominations must also state that the nominee is willing to serve as a member of the Committee and appears to have no conflict of interest that would preclude membership.

Dated: April 5, 2023.
LaTonya L. Small,
Federal Advisory Committee Management Officer.

[FR Doc. 2023-07467 Filed 4-7-23; 8:45 am]

BILLING CODE 8320-01-P